DEPARTMENT OF COMMERCE

National Oceanic and Atmospheric Administration

[Docket No. 001214351-1124-02]

RIN: 0648-ZB02

Dr. Nancy Foster Scholarship Program; Financial Assistance for Graduate Students

AGENCY: National Ocean Service (NOS), National Oceanic and Atmospheric Administration (NOAA), Department of Commerce.

ACTION: Notice.

SUMMARY: The Department of Commerce is announcing funding availability for graduate students pursuing masters or doctoral level degrees in oceanography, marine biology, or maritime archaeology through the Dr. Nancy Foster Scholarship Program and is inviting applications for such scholarships. Applicants who have submitted an application for a Dr. Nancy Foster scholarship prior to the publication of this notice should review their applications and submit any revisions or supplemental materials necessary to comply with the application requirements or in recognition of the funding priorities and selection criteria set forth in this notice.

DATES: The Dr. Nancy Foster Scholarship Program application period opened March 26, 2001, 66 FR 16445, and will close June 21, 2001. Applications must be postmarked by the closing date. Scholarship awards will be announced on or about July 19, 2001.

ADDRESSES: Applications should be sent to the Dr. Nancy Foster Scholarship Program, Attention: Office of the Assistant Administrator, 13th Floor, National Ocean Service, 1305 East-West Highway, Silver Spring, MD 20910. Copies of form CD-511 may be requested from this address or may be downloaded from the Department of Commerce Web site: http://www.doc.gov. Information on the scholarship program may be obtained from the Web site: http://fosterscholars.noaa.gov.

FOR FURTHER INFORMATION CONTACT: Dr. Nancy Foster Scholarship Program, Office of the Assistant Administrator, 13th Floor, National Ocean Service, 1305 East-West Highway, Silver Spring, MD 20910 (301-713-3074).

SUPPLEMENTARY INFORMATION: Authority: The Dr. Nancy Foster Scholarship Program is authorized by the National Marine Sanctuaries Amendments Act of 2000 (Pub. L. 106-513) to recognize outstanding scholarship in oceanography, marine biology, or maritime archaeology, particularly by women and members of minority groups, and encourage independent graduate-level research through financial support of graduate studies in such fields.

Catalog of Federal Domestic Assistance: This program is listed under CFDA #11.460, titled Special Oceanic and Atmospheric Projects.

Program Description: The Dr. Nancy Foster Scholarship Program provides support for independent graduate-level studies in oceanography, marine biology, or maritime archaeology, particularly by women and members of minority groups. Gender and minority status is not considered when selecting award recipients. However, special outreach efforts are employed to solicit applications from women and minorities. Scholarships are distributed by disciplines, institutions and geography, and by the degree type and level being sought, with selections within distributions based on financial need, the potential for success in a graduate studies program, and the potential for achieving research and career goals. The program is administered through NOAA's National Ocean Service and is funded annually with 1% of the amount appropriated each fiscal year to carry out the National Marine Sanctuaries Act.

Funding Availability: For the 2001-2002 academic year, Dr. Nancy Foster Scholarships may provide support of up to $28,800 per student: a 12-month stipend of $16,800, in addition to a tuition allowance of up to $12,000. A maximum of $57,600 may be provided to masters students (up to two years of support) and up to $115,200 may be provided to doctoral students (up to four years of support). For the 2001-2002 academic year, NOAA expects to award five scholarships. The annual stipend will be paid directly to the scholar. The stipend is intended to defray cost-of-living expenses, and not to support research costs. NOAA anticipates the student and their faculty advisor will secure research funds independent of the scholarship. Tuition and academic fees will be negotiated between the academic institution and the Dr. Nancy Foster Scholarship program manager at NOAA prior to the start of studies. This negotiation is intended to levy scholarship funds and enhance opportunities for scholarship recipients. In those instances in which tuition and academic fees are not totally waived by the academic institution, the tuition allowance in an amount equal to the tuition and fees not waived (but not to exceed $12,000) will be paid directly to the scholar to remittance to the academic institution. If tuition and fees are reduced or waived by the academic institution, then that portion of the tuition allowance not needed (i.e., up to $12,000 in the case of a total waiver) will be retained by NOAA for future scholarships. No money will be paid directly to the student from the tuition allowance for purposes other than the payment of tuition and fees.

Specific instructions regarding the disbursement, management, and reporting requirements for all stipend and tuition allowance payments will be provided at a later date. The awarding of funds beyond the first year will be based on availability of funds, continued eligibility of the student, periodic certification by the academic institution that adequate academic progress is being made, and compliance with applicable reporting requirements. At its discretion, each academic institution may supplement a scholar's stipend from institutional funds in accordance with the supplementation policy of the institution.

Matching Requirements: There are no matching requirements for an award.

Type of Funding Instrument: Grant.

Eligibility Criteria: Only United States citizens currently pursuing or intending to pursue a masters or doctoral level degree in oceanography, marine biology, or maritime archaeology, including the curation, preservation, and display of maritime artifacts, are eligible for an award under this scholarship program. Prospective scholars do not need to be enrolled or admitted to a graduate-level program in order to apply for this scholarship. However, funds will not be released before the applicant is accepted to an accredited institution in the United States with a program emphasis in the areas described above, and certification to that effect has been received by NOAA from that institution. Studies must be conducted on a full-time basis. Recipients of scholarship awards may be employed at the time of the award if it is a requirement of their degree program or directly related to their research effort. Other forms of employment will not be allowed and scholars will be required to submit a letter certifying that they are in compliance with this requirement. Eligibility must be maintained for each succeeding year of support and annual reporting requirements, to be specified at a later date, will apply.

Award Period: This call for applications is for studies beginning in the fall 2001. Stipends will cover a 12 month period. Masters students may be supported for up to two years, and doctoral students for up to four years.

Indirect Costs: No indirect costs will be paid on this award.

Applications: Applications for Dr. Nancy Foster Scholarships are invited. Applications were first invited by Federal Register notice on March 26, 2001 (66 FR 16445) with certain needed information only appearing on NOAA's website for the program, http://fosterscholars.noaa.gov. Today's notice contains all necessary information and announces a closing date of June 21, 2001 for the submission of applications. Applicants who submitted an application for a Dr. Nancy Foster scholarship in response to the March 26, 2001, notice should review their applications and submit any revisions or supplemental materials necessary to comply with the application requirements or in recognition of the funding priorities and selection criteria set forth in this notice. Applications and revisions or supplements to applications previously submitted must be postmarked by the closing date. Scholarship awards will be announced on or about July 19, 2001.

Applications: Each application must include these following items:

(I) General Information Sheet

(II) Statement of Intent

(III) Institute Certification (for those applicants who are currently enrolled in a graduate program for which support is requested, or who have received acceptance for fall 2001 enrollment in a graduate program for which support is requested)

(IV) Transcripts

(V) Three Letters of Recommendation

(VI) Declaration

Applicants who have submitted an application for a Dr. Nancy Foster scholarship prior to the publication of this notice should review their applications and submit any revisions or supplemental materials necessary (e.g., Declaration) to comply with the application requirements or in recognition of the funding priorities and selection criteria set forth in this notice.

I. General Information Sheet

Personal Data: Provide your full name, country of citizenship, current address, permanent address, and home and work telephone numbers. If you can be reached by fax or e-mail, include that information. Optional—for statistical collection purposes only: Indicate your gender and whether you are Hispanic or Latino and indicate your race by selecting one or more of the following: American Indian or Alaska Native, Asian, Black or African-American, Native Hawaiian or Other Pacific Islander, or White.

Degree Sought: State your proposed field of study (oceanography, marine biology or maritime archaeology) and degree type you are seeking (e.g., M.S., M.A., Ph.D). Include the month and year you expect the degree to be awarded. If you have selected a school, state the name and location. If you have not yet selected a school, list your proposed field of study, degree type you are seeking, and state that you have not yet selected a school.

Education: List the academic degrees you have received, or expect to receive by the start of your proposed graduate studies for this program, including the date and institution.

Funding Resources: List all resources you have available to assist you in your graduate studies (e.g., grants, student loans, scholarships).

Publications: If you have published in the technical literature, provide a bibliography. If you have not published, write “NA.”

Experience: List relevant experience only (e.g., unpaid employment, military service, internships, residencies, special studies, volunteer work). Give dates and a short description of your duties in each position, starting with the most recent. Include the names, addresses and phone numbers of employers.

II. Statement of Intent

The Statement of Intent is a self-description of your academic, research, and career goals, and how your proposed course of study or research will help you achieve these goals. Include any background information you believe is pertinent, and provide insight into why you have chosen the goals you are pursuing. Provide a descriptive title for your research project if any, or your research area of interest if you do not have a specific research project selected. This statement should demonstrate your organizational, analytical, and written communication skills. The Statement of Intent should be typewritten, single-spaced on a blank piece of paper, and should not exceed one page in length.

III. Institute Certification

For those applicants who are currently enrolled in a graduate program for which support is requested, or who have received acceptance for fall 2001 enrollment in a graduate program for which support is requested, a letter from the institution certifying this must be submitted with your application. The letter should consist of the following information on school letterhead and be signed by a school official: Name and location of the academic institution, the school and department that you currently are attending or plan to attend, and the month and year your studies will begin if you are not currently enrolled. If you have a graduate advisor, list his/her name, address, phone, fax, and e-mail, if available, in the Institute Certification portion of your application. For students not yet accepted to an institution, if selected as an award recipient, a letter from the institution certifying this must be submitted to NOAA before funds can be released.

IV. Transcripts

Provide official transcripts for all previous university/college-level studies.

V. Three Letters of Recommendation

Each application must include three letters of recommendation from individuals who have knowledge of your academic record, research effort, work and/or life experience. Relevant unpaid work, such as internships and volunteer efforts, is applicable. If you have a sponsor or advisor in the program, one of these letters should be from that individual. Letters of recommendation sent apart from the application will not be accepted.

VI. Declaration

Applicants must certify that all statements and information in their applications are true and correct by copying the following on a plain piece of paper, signing it, and including it in their application:

I, the undersigned, declare, under penalty of perjury, that all statements and information in my application are true and correct.

Executed on [insert date]/

Print or Type Name:.

Signature:.

Funding Priorities: The priority of the program is to fund independent graduate-level studies in oceanography, marine biology, or maritime archaeology with scholarships distributed by disciplines, institutions and geography, and by the degree type and level being sought, with selections within distributions based on financial need, the potential for success in a graduate studies program, and the potential for achieving research and career goals.

Evaluation Criteria: The evaluation criteria and their weights are as follows: a) financial need (30%); b) academic record (25%); c) recommendations (25%); d) organizational, analytical, and written communication skills based on statement of intent (10%); and e) research and career goals and objectives (10%).

Selection Procedures: An advisory panel of experts will review applications based on the evaluation criteria and provide a numerical score for each one. These scores will be used by the selecting official in his/her selection of the recipients of a Dr. Nancy Foster Scholarship. In making final selections, the selecting official will consider availability of funds, distribution of awards across disciplines, institutions and geography, and the degree type and level being sought and will base selections within distributions by score. Therefore, scholarship awards will not necessarily be made to the applications receiving the highest scores.

Announcement of Awards: The names, academic institutions, degrees being sought, research plans, and biographical information of the scholarship awardees will be posted on NOAA's National Ocean Service Web site and may be published in marketing materials developed to advertise the Dr. Nancy Foster Scholarship Program.

Other Requirements:

(1) Federal Policies and Procedures—All scholarship recipients are subject to all Federal laws and Federal and DoC policies, regulations, and procedures applicable to Federal financial assistance awards.

(2) Past Performance—Unsatisfactory performance under prior Federal awards may result in an application not being considered for funding.

(3) Preaward Activities—If applicants incur any costs prior to an award being made, they do so solely at their own risk of not being reimbursed by the Government. Notwithstanding any verbal or written assurance that may have been received, there is no obligation on the part of DoC to cover preaward costs.

(4) No Obligation for Future Funding—If an application is selected for funding, DoC has no obligation to provide any additional future funding in connection with that award. Renewal of an award to increase funding or extend the period of performance is at the total discretion of DoC.

(5) Delinquent Federal Debts—No award of Federal funds shall be made to an applicant who has an outstanding delinquent Federal debt until either:

i. The delinquent account is paid in full,

ii. A negotiated repayment schedule is established and at least one payment is received, or

iii. Other arrangements satisfactory to DoC are made.

(6) Name Check Review—A name check will be conducted on the individuals selected for the scholarship. Name checks are intended to reveal if any applicants have been convicted of or are presently facing criminal charges such as fraud, theft, perjury, or other matters which significantly reflect on the applicant's management honesty or financial integrity.

(7) Recipient Certifications—All scholarship recipients must submit a completed Form CD-511 (See ADDRESSES), “Certifications Regarding Debarment, Suspension and Other Responsibility Matters; Drug-Free Workplace Requirements and Lobbying,” and the following explanations are provided:

i. Nonprocurement Debarment and Suspension. Prospective participants (as defined at 15 CFR Part 26, Section 105) are subject to 15 CFR Part 26, “Nonprocurement Debarment and Suspension” and the related section of the certification form prescribed above applies;

ii. Drug-Free Workplace. Grantees (as defined at 15 CFR Part 26, Section 605) are subject to 15 CFR Part 26, Subpart F, “Governmentwide Requirements for Drug-Free Workplace (Grants)” and the related section of the certification form prescribed above applies;

iii. Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

iv. Anti-Lobbying Disclosures. Any applicant that has paid or will pay for lobbying using any funds must submit an SF-LLL, “Disclosure of Lobbying Activities,” as required under 15 CFR Part 28, Appendix B.

(8) False Statements—A false statement on an application is grounds for denial or termination of funds and grounds for possible punishment by a fine or imprisonment as provided in 18 U.S.C. 1001.

(9) Classification—This document contains collection-of-information requirements subject to the Paperwork Reduction Act (PRA). This application has been approved by the Office of Management and Budget (OMB) under control number 0648-0432. Public reporting burden for this collection of information is estimated to average 5 hours for an application and 45 minutes per letter of recommendation. These estimates include the time for reviewing instructions, searching existing data sources, gathering and maintaining the data needed, and completing and reviewing the collection of information. This document also requires use of a SF-LLL, which has been approved by OMB under control number 0348-0046. Notwithstanding any other provision of law, no person is required to respond to, nor shall any person be subject to a penalty for failure to comply with, a collection-of-information subject to the PRA, unless that collection displays a currently valid OMB control number.

Applications under this program are not subject to Executive Order 12372, Intergovernmental Review of Federal Programs.

This action has been determined to be not significant for purposes of Executive Order 12866.

Dated: May 15, 2001.
Scott B. Gudes,
Acting Administrator, National Oceanic and Atmospheric Administration, U.S. Department of Commerce.

[FR Doc. 01-12822 Filed 5-21-01; 8:45 am]

BILLING CODE 3510-JE-P